DEPARTMENT OF COMMERCE

National Oceanic and Atmospheric Administration

[I.D. 080602F]

Marine Mammals; File No. 1021-1658

AGENCY: National Marine Fisheries Service (NMFS), National Oceanic and Atmospheric Administration (NOAA), Commerce.

ACTION: Issuance of permit.

SUMMARY: Notice is hereby given that Jenifer A. Hurley, Ph.D., Moss Landing Marine Laboratories, 8272 Moss Landing Road, Moss Landing, CA 95039, has been issued a permit to take California sea lions (Zalophus californianus) and harbor seals (Phoca vitulina) for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376;

Southwest Region, NMFS, 501 West Ocean Blvd., Suite 4200, Long Beach, CA 90802-4213; phone (562)980-4001; fax (562)980-4018.

FOR FURTHER INFORMATION CONTACT: Amy Sloan or Ruth Johnson, (301)713-2289.

SUPPLEMENTARY INFORMATION: On February 27, 2002, notice was published in the Federal Register (67 FR 8941) that a request for a scientific research permit to take California sea lions and harbor seals had been submitted by the above-named individual. The requested permit has been issued under the authority of the Marine Mammal Protection Act of 1972, as amended (16 U.S.C. 1361 et seq.), and the Regulations Governing the Taking and Importing of Marine Mammals (50 CFR part 216).

The permit authorizes the Holder to obtain up to ten sea lions and five seals, and maintain up to eight animals at Moss Landing Marine Laboratories for purposes of scientific research. Animals may be obtained from rehabilitation centers, Naval facilities, or aquaria. All research occurs through the cooperative assistance of trained animals. Physiology studies will be performed in captivity and free release settings in the open ocean, off the California coast. Aspects of diving, swimming, and resting physiology will be studied, including metabolism, heart rate, respiratory rate, body temperature, and substrate utilization. Veterinary medicine studies will investigate if marine mammals have Helicobacter present in stomach mucous and explore possible antibiotic treatments.

Dated: August 13, 2002.
Eugene T. Nitta,
Acting Chief, Permits, Conservation and Education Division, Office of Protected Resources, National Marine Fisheries Service.

[FR Doc. 02-21021 Filed 8-16-02; 8:45 am]

BILLING CODE 3510-22-S